ENVIRONMENTAL PROTECTION AGENCY

[FRL-9271-7]

Status of Motor Vehicle Budgets in Submitted State Implementation Plan for Transportation Conformity Purposes; Maricopa County (Phoenix) PM-10 Nonattainment Area, Arizona Notice of Withdrawal of Adequacy of Motor Vehicle Emissions Budget

AGENCY: Environmental Protection Agency (EPA).

ACTION: Notice of withdrawal of adequacy; correction.

SUMMARY: This document corrects a notice published in the Federal Register on February 9, 2011 (76 FR 7204) announcing that EPA has withdrawn its May 30, 2008 adequacy finding of the 2010 particulate matter of ten microns or less (PM-10) motor vehicle emission budget (MVEB) for the Maricopa County (Phoenix) Nonattainment Area.

FOR FURTHER INFORMATION CONTACT: Gregory Nudd, U.S. EPA Region 9, 415-947-4107, nudd.gregory@epa.gov.

SUPPLEMENTARY INFORMATION: On January 31, 2011, EPA withdrew its May 30, 2008 adequacy finding of the 2010 particulate matter of ten microns or less (PM-10) motor vehicle emission budget (MVEB) for the Maricopa County (Phoenix) Nonattainment Area, and on February 9, 2011, EPA announced the withdrawal of the MVEB in the Federal Register at 76 FR-7204. EPA's February 9, 2011 notice contained a number of incorrect dates. EPA is making the corrections to the February 9, 2011 notice in today's document to avoid confusion regarding the date of the letters from EPA to the Arizona Department of Environmental Quality (ADEQ) and the Maricopa Association of Governments (MAG) withdrawing the adequacy finding and the effective date of the withdrawal of the adequacy finding, which is one and the same, January 31, 2011.

Today, EPA is making the following corrections to the February 9, 2011 notice:

1. The section DATES is corrected to read as follows: “EPA's withdrawal of the May 30, 2008 adequacy finding was made in letters dated January 31, 2011 from EPA Region 9 to ADEQ and MAG. This withdrawal of the May 30, 2008 adequacy finding was effective on January 31, 2011.”

2. Under the section SUPPLEMENTARY INFORMATION, the final paragraph under subsection “I. Background” is corrected to read as follows: “EPA has withdrawn its May 30, 2008 adequacy finding without prior notice and comment because adequacy findings are not considered rulemakings subject to the procedural requirements of the Administrative Procedures Act. In addition, EPA does not believe notice through EPA's conformity Web site is necessary in advance because the withdrawn SIP is no longer pending before EPA for consideration. Consequently, further public comment would be unnecessary and not in the public interest. By sending the January 31, 2011 letters, EPA has also withdrawn all statements and comments previously made regarding its May 30, 2008 adequacy finding of the MVEBs budgets for transportation conformity purposes.”

3. Under the section SUPPLEMENTARY INFORMATION, the paragraph under subsection “II. Notice of Withdrawal of MVEB Adequacy Determination” is corrected to read as follows: “This is an announcement of EPA's withdrawal of its May 30, 2008 adequacy finding. EPA withdrew this adequacy finding in letters dated January 31, 2011 from Deborah Jordan, Director, Air Division, EPA Region 9 to Eric C. Massey, Director, Air Quality Division, ADEQ and Dennis Smith, Executive Director, MAG. The effective date of this withdrawal is January 31, 2011 based on EPA's transportation conformity regulation at 40 CFR 93.118(f)(1)(vi). This announcement will also be made on EPA's Web site: http://www.epa.gov/otaq/stateresources/transconf/index.htm (once there, click on the `Adequacy Review of SIP Submissions' button and proceed to the Region 9 page for SIP submissions that have already been found adequate or inadequate).”

Dated: February 15, 2011.
Jared Blumenfeld,
Regional Administrator, Region IX.

[FR Doc. 2011-4387 Filed 2-25-11; 8:45 am]

BILLING CODE 6560-50-P